DEPARTMENT OF JUSTICE

Notice of Lodging of Consent Judgment Under the Clean Air Act

Notice is hereby given that on July 28, 2010, a proposed Consent Judgment in United States v. Nassau Chromium Plating Co., Inc., No. CV-09-2706, was lodged with the United States District Court for the Eastern District of New York.

The proposed Consent Judgment resolves claims of the United States, on behalf of the Environmental Protection Agency (“EPA”), under the Clean Air Act, as amended, 42 U.S.C. 7401 et seq. (hereinafter, the “Act”), against Defendant Nassau Chromium Plating Co., Inc. (“Defendant”). The United States alleges that Defendant has owned and operated a facility located at 112-122 Second Street, Mineola, New York, that sprays paint and applies chromium on, among other things, aluminum and steel parts, at which Defendant violated Sections 101-114 of the Act, 42 U.S.C. 7401-7414, and its implementing regulations, 40 CFR part 63, subpart N.

The Consent Judgment requires the Defendant to pay a civil penalty of $4,000.00, which was calculated after conducting an ability-to-pay analysis. The Consent Judgment also provides for injunctive relief that requires Defendant to maintain compliance with the provisions of Sections 101-114 of the Act, 42 U.S.C. 7401-7414, and its implementing regulations, 40 CFR part 63, subpart N, and submit reports to EPA for a three-year period demonstrating such compliance.

The Department of Justice will receive for a period of 30 days from the date of this publication comments relating to the proposed Consent Judgment. Comments should be addressed to the Assistant Attorney General, Environment and Natural Resources Division, and either e-mailed to pubcomment-ees.enrd@usdoj.gov or mailed to P.O. Box 7611, U.S. Department of Justice, Washington, DC 20044-7611, and should refer to: United States v. Nassau Chromium Plating Co., Inc., No. CV-09-2706 (E.D.N.Y.), D.J. Ref. 90-5-2-1-08190.

The proposed Consent Judgment may be examined at the Office of the United States Attorney, Eastern District of New York, 271 Cadman Plaza East, 7th Fl., Brooklyn, New York 11201, and at the United States Environmental Protection Agency, Region II, 290 Broadway, New York, New York 10007-1866. During the public comment period, the proposed Consent Judgment may also be examined on the following Department of Justice Web site, http://www.usdoj.gov/enrd/Consent_Decrees.html. A copy of the proposed Consent Judgment may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.00 (25 cents per page reproduction cost), payable to the U.S. Treasury.

Maureen Katz,
Assistant Section Chief, Environmental Enforcement Section, Environment and Natural Resources Division, U.S. Department of Justice.

[FR Doc. 2010-18976 Filed 8-2-10; 8:45 am]

BILLING CODE 4410-15-P